NUCLEAR REGULATORY COMMISSION

[Docket No. 50-271-LR; ASLBP No. 06-849-03-LR]

Entergy Nuclear Vermont Yankee, L.L.C., and Entergy Nuclear Operations, INC. (Vermont Yankee Nuclear Power Station); Notice of Reconstitution

Pursuant to 10 CFR 2.321(b), the Atomic Safety and Licensing Board in the above captioned Entergy Nuclear Vermont Yankee, L.L.C., and Entergy Nuclear Operations, Inc. proceeding is hereby reconstituted by appointing Administrative Judge William H. Reed in place of Administrative Judge Thomas S. Elleman, whose circumstances have rendered him unavailable to participate further in this proceeding (10 CFR 2.313(c)).

In accordance with 10 CFR 2.302, henceforth all correspondence, documents, and other material relating to any matter in this proceeding over which this Licensing Board has jurisdiction should be e-mailed to Administrative Judge Reed at whrcville@embarqmail.com and served on him as follows: Administrative Judge William H. Reed,1819 Edgewood Lane, Charlottesville, VA 22902.

Issued at Rockville, Maryland, this 14th day of March 2008.
E. Roy Hawkens,
Chief Administrative Judge, Atomic Safety and Licensing Board Panel.

[FR Doc. E8-5642 Filed 3-19-08; 8:45 am]

BILLING CODE 7590-01-P